ENVIRONMENTAL PROTECTION AGENCY

[FRL-9904-16-Region-2]

Proposed CERCLA Settlement Relating to the Paul's Tank Cleaning Service Superfund Site, Burlington County, New Jersey

AGENCY: Environmental Protection Agency.

ACTION: Notice of proposed administrative settlement and opportunity for public comment.

SUMMARY: In accordance with Section 122(i) of the Comprehensive Environmental Response, Compensation, and Liability Act of 1980, as amended (“CERCLA”), notice is hereby given by the U.S. Environmental Protection Agency (“EPA”), Region 2, of a proposed Administrative Settlement Agreement for Recovery of Past and Future Response Costs (“Agreement”) pursuant to Section 122(h)(1) of CERCLA, with SKF USA, Inc. (“Settling Party”). The Settling Party is a potentially responsible party, pursuant to Section 107(a) of CERCLA, and thus is potentially liable for response costs incurred at or in connection Paul's Tank Cleaning Service Superfund Site (“Site”), located in Burlington County, New Jersey. Under the Agreement, the Settling Party agrees to pay a total of $100,000.00 to EPA for past and future response costs. EPA will consider all comments received and may modify or withdraw its consent to the Agreement if comments received disclose facts or considerations that indicate that the proposed Agreements are inappropriate, improper, or inadequate. EPA's response to any comments received will be available for public inspection at EPA Region 2 offices, 290 Broadway, New York, New York 10007-1866.

DATES: Comments must be provided by January 15, 2014.

ADDRESSES: The Agreement is available for public inspection at EPA Region 2 offices at 290 Broadway, New York, New York 10007-1866. Comments should reference the Paul's Tank Cleaning Service Superfund Site, located in Burlington County, New Jersey, Index No. CERCLA-02-2013-2022. To request a copy of the Agreements, please contact the EPA employee identified below.

FOR FURTHER INFORMATION CONTACT: William J. Reilly, Jr., Assistant Regional Counsel, New Jersey Superfund Branch, Office of Regional Counsel, U.S. Environmental Protection Agency, 290 Broadway—17th Floor, New York, New York 10007-1866. Telephone: 212-637-3154, email at reilly.williamj@epa.gov.

Dated: November 27, 2013.
Walter E. Mugdan,
Director, Emergency and Remedial Response Division.

[FR Doc. 2013-29807 Filed 12-13-13; 8:45 am]

BILLING CODE 6560-50-P